DEPARTMENT OF TRANSPORTATION

Federal Aviation Administration

14 CFR Part 95

[Docket No. 31102; Amdt. No. 529]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, November 10, 2016.

FOR FURTHER INFORMATION CONTACT: Thomas J Nichols, Flight Procedure Standards Branch (AMCAFS-420), Flight Technologies and Programs Division, Flight Standards Service, Federal Aviation Administration, Mike Monroney Aeronautical Center, 6500 South MacArthur Blvd., Oklahoma City, OK, 73169 (Mail Address: P.O. Box 25082, Oklahoma City, OK 73125). Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on October 7, 2016.
John Duncan,
Director, Flight Standards Service.

Adoption of the Amendment

Accordingly, pursuant to the authority delegated to me by the Administrator, part 95 of the Federal Aviation Regulations (14 CFR part 95) is amended as follows effective at 0901 UTC, November 10, 2016.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 529 effective date November 10, 2016]
From | To | MEA
§ 95.6001 Victor Routes-U.S.
§ 95.6021 VOR Federal Airway V21 Is Amended To Read in Part
CUT BANK, MT | VORTAC U.S. CANADIAN BORDER | 6300
§ 95.6023 VOR Federal Airway V23 Is Amended To Read in Part
LINDEN, CA | VOR/DME SACRAMENTO, CA VORTAC | 2300
§ 95.6025 VOR Federal Airway V25 Is Amended To Read in Part
YAKIMA, WA | VORTAC * ELLENSBURG, WA VOR/DME | 5900
* 6800—MCA | ELLENSBURG, WA VOR/DME, N BND
ELLENSBURG, WA | VOR/DME * WENATCHEE, WA VOR/DME | 8900
* 7400—MCA | WENATCHEE, WA VOR/DME, S BND
§ 95.6028 VOR Federal Airway V28 Is Amended To Read in Part
HAIRE, CA | FIX LINDEN, CA VOR/DME | * 3000
* 2100—MOCA
LINDEN, CA | VORTAC * KATSO, CA FIX | 5000
* 12400—MCA | KATSO, CA FIX, NE BND
KATSO, CA | FIX * SPOOK, CA FIX | ** 13000
* 15000—MCA | SPOOK, CA FIX, N BND
** 12100—MOCA
§ 95.6048 VOR Federal Airway V48 Is Amended To Read in Part
BURLINGTON, IA | VOR/DME PEORIA, IL VORTAC | 2500
§ 95.6071 VOR Federal Airway V71 Is Amended To Read in Part
MONROE, LA | VORTAC EL DORADO, AR VOR/DME | 2200
§ 95.6108 VOR Federal Airway V108 Is Amended To Read in Part
OAKEY, CA | FIX LINDEN, CA VOR/DME | 2300
§ 95.6113 VOR Federal Airway V113 Is Amended To Read in Part
LINDEN, CA | VOR/DME * KATSO, CA FIX | 5000
* 12400—MCA | KATSO, CA FIX, NE BND
KATSO, CA | FIX SPOOK, CA FIX | * 13000
* 12100—MOCA
§ 95.6120 VOR Federal Airway V120 Is Amended To Read in Part
MASON CITY, IA | VORTAC * AREDA, IA FIX | 3000
* 4500—MRA
§ 95.6212 VOR Federal Airway V212 Is Amended To Read in Part
INDUSTRY, TX | VORTAC NAVASOTA, TX VOR/DME | 2200
§ 95.6295 VOR Federal Airway V295 Is Amended To Read in Part
VIRGINIA KEY, FL | VOR/DME STOOP, FL FIX | * 5000
* 2000—MOCA
§ 95.6336 VOR Federal Airway V336 Is Amended To Read in Part
ELLENSBURG, WA | VOR/DME * QUINT, WA FIX | 7100
* 6500—MCA | QUINT, WA FIX, SW BND
§ 95.6365 VOR Federal Airway V365 Is Amended To Read in Part
CHOTE, MT | FIX CUT BANK, MT VORTAC | 7000
§ 95.6459 VOR Federal Airway V459 Is Amended To Read in Part
FRIANT, CA | VORTAC BAGBY, CA FIX | * 8500
* 6600—MOCA
BAGBY, CA | FIX LINDEN, CA VOR/DME | 7000
§ 95.6485 VOR Federal Airway V485 Is Amended To Read in Part
FELLOWS, CA | VOR/DME * REDDE, CA FIX | ** 7000
* 7000—MCA | REDDE, CA FIX, SE BND
** 6100—MOCA

[FR Doc. 2016-24889 Filed 10-13-16; 8:45 am]

BILLING CODE 4910-13-P